DEPARTMENT OF HEALTH AND HUMAN SERVICES

Administration for Children and Families

Submission for OMB Review; Comment Request

Proposed Projects: Evaluation of the Transitional Living Program (TLP).

Title: Evaluation of the Transitional Living Program (TLP).

OMB No.: 0970-0383.

Description: The Runaway and Homeless Youth Act (RHYA), as amended by Public Law 106-71 (42 U.S.C. 5701 et seq.), provides for the Transitional Living Program (TLP), a residential program lasting up to 18 months designed to prepare older homeless youth ages 16-21 for a healthy and self-sufficient adulthood. Section 119 of RHYA requires a study on the long-term housing outcomes of youth after exiting the program.

The proposed collection is being carried out in two steps:

1. Interviews with TLP grantee administrators and front line staff about program structure, implementation, and approaches to service delivery.

2. A set of surveys to be administered to run away and homeless youth to measure their short-term and longer-term outcomes such as demographic characteristics, receipt of TLP or “TLP-like” services, housing, employment, education, social connections (e.g., social relationships, civic engagement), psychosocial well-being (e.g., depressive symptoms, traumatic stress, risky behavior, history of abuse), and other measures related to self-sufficiency and well-being (exposure to violence, financial competence).

This information will be used to better understand the most effective practices that improve the long-term outcomes for runaway and homeless youth and reduce future episodes of homelessness.

Respondents: (1) Youth ages 16-21 participating in Transitional Living Programs and (2) the Executive Director and front line staff representing TLP grantees.

Annual Burden Estimates
Instrument | Number of respondents | Number of responses per respondent | Average burden hours per response | Total burden hours
Site Visit Interviews
Program Overview Survey: Executive Director Interview Guide (1 Executive Director respondent per grantee) | 14 | 1 | 1.00 | 14.00
Program Overview Survey: Program Staff Interview Guide (4 Program Staff respondents per grantee) | 56 | 1 | 2.00 | 112.00
Youth Development Survey Interview Guide (1 Executive Director and 1 Program Staff respondent per grantee) | 28 | 1 | 0.50 | 14.00
Young Adult Surveys
Young Adult Baseline Survey | 1250 | 1 | 0.75 | 937.50
Young Adult 3-Month Follow Up Survey | 1000 | 1 | 0.54 | 540.00
Young Adult 6-Month Tracking Survey | 1000 | 1 | 0.17 | 170.00
Young Adult 9-Month Tracking Survey | 1000 | 1 | 0.17 | 170.00
Young Adult 12-Month Follow Up Survey | 1000 | 1 | 0.75 | 750.00
Young Adult 15-Month Tracking Survey | 1000 | 1 | 0.17 | 170.00
Young Adult 18-Month Follow Up Survey | 1000 | 1 | 0.75 | 750.00

Estimated Total Burden Hours: 3627.50.

Additional Information: Copies of the proposed collection may be obtained by writing to the Administration for Children and Families, Office of Planning, Research and Evaluation, 370 L'Enfant Promenade SW., Washington, DC 20447, Attn: ACF Reports Clearance Officer. All requests should be identified by the title of the information collection. Email address: infocollection@acf.hhs.gov.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Email: OIRA_SUBMISSION@OMB.EOP.GOV, Attn: Desk Officer for the Administration for Children and Families.

Robert Sargis,
Reports Clearance Officer.

[FR Doc. 2014-23206 Filed 9-29-14; 8:45 am]

BILLING CODE 4184-01-P